DEPARTMENT OF DEFENSE

Office of the Secretary

Renewal of Department of Defense Federal Advisory Committees—Defense Science Board

AGENCY: Department of Defense (DoD).

ACTION: Renewal of federal advisory committee.

SUMMARY: The DoD is publishing this notice to announce that it is renewing the Defense Science Board (DSB).

FOR FURTHER INFORMATION CONTACT: Jim Freeman, DoD Advisory Committee Management Officer, 703-692-5952.

SUPPLEMENTARY INFORMATION: The DSB is being renewed in accordance with the Federal Advisory Committee Act (FACA) (5 U.S.C., appendix) and 41 CFR 102-3.50(d). The charter and contact information for the DSB's Designated Federal Officer (DFO) are found at https://www.facadatabase.gov/FACA/apex/FACAPublicAgencyNavigation.

The DSB provides the Secretary of Defense and Deputy Secretary of Defense with independent advice on matters supporting the DoD's scientific and technical enterprise. The DSB shall focus on matters concerning science, technology, manufacturing, acquisition process, and other topics of special interest to the Department in response to specific tasks from the Secretary of Defense, the Deputy Secretary of Defense (“the DoD Appointing Authority”), or the Under Secretary of Defense for Research and Engineering (USD(R&E)). The DSB is composed of no more than 40 members who are eminent authorities in the fields of science, technology, manufacturing, acquisition process, and other matters of special interest to the DoD.

Individual members are appointed according to DoD policy and procedures, and serve a term of service of one-to-four years with annual renewals. One member will be appointed as Chair of the DSB. No member, unless approved according to DoD policy and procedures, may serve more than two consecutive terms of service on the DSB, or serve on more than two DoD Federal advisory committees at one time.

DSB members who are not full-time or permanent part-time Federal civilian officers or employees, or active duty members of the Uniformed Services, are appointed as experts or consultants, pursuant to 5 U.S.C. 3109, to serve as special government employee members. DSB members who are full-time or permanent part-time Federal civilian officers or employees, or active duty members of the Uniformed Services are appointed pursuant to 41 CFR 102-3.130(a), to serve as regular government employee members.

All DSB members are appointed to provide advice based on their best judgment without representing any particular point of view and in a manner that is free from conflict of interest. Except for reimbursement of official DSB-related travel and per diem, members serve without compensation.

The public or interested organizations may submit written statements about the DSB's mission and functions. Written statements may be submitted at any time or in response to the stated agenda of planned meeting of the DSB. All written statements shall be submitted to the DFO for the DSB, and this individual will ensure that the written statements are provided to the membership for their consideration.

Dated: May 3, 2022.
Aaron T. Siegel,
Alternate OSD Federal Register Liaison Officer, Department of Defense.

[FR Doc. 2022-09778 Filed 5-5-22; 8:45 am]

BILLING CODE 5001-06-P